FEDERAL COMMUNICATIONS COMMISSION

47 CFR Part 1

[DA 11-668]

Cable Landing Licenses; Correction

AGENCY: Federal Communications Commission.

ACTION: Correcting amendment.

SUMMARY: This document contains a corrected mailing address for the Defense Information Systems Agency in the regulations that we published in the Federal Register of January 14, 2002, 67 FR 1615.

DATES: Effective June 7, 2011.

FOR FURTHER INFORMATION CONTACT: Adrienne Downs at (202) 418-0412 or JoAnn Sutton at (202) 418-1372 of the International Bureau, Policy Division.

SUPPLEMENTARY INFORMATION:

Background

The final regulation that is the subject of this correction superseded § 1.767(j) on the mailing address for the Defense Information Systems Agency and affects applicants requesting streamlined processing of cable landing license applications.

Need for Correction

As published, the final regulation contains an incorrect address for the Defense Information Systems Agency to which applicants seeking to use the streamlined grant procedure specified in paragraph (i) of § 1.767, must send a complete copy of their application, or any major amendments or other material filings regarding the application to, among others, the Defense Information Systems Agency.

List of Subjects in 47 CFR Part 1

Administrative practice and procedure.

Federal Communications Commission.
Sarah Van Valzah,
Assistant Bureau Chief, International Bureau.

Accordingly, 47 CFR part 1 is corrected by making the following correcting amendments:

PART 1—PRACTICE AND PROCEDURES

1. The authority citation for part 1 continues to read as follows:

Authority: 15 U.S.C. 79 et seq.; 47 U.S.C. 151, 154(i), 154(j), 155, 157, 225, 303(r), and 309.

2. Section 1.767 is amended by revising paragraph (j) to read as follows:

§ 1.767 Cable landing licenses.

* * * * *

(j) Applications for streamlining. Each applicant seeking to use the streamlined grant procedure specified in paragraph (i) of this section shall request streamlined processing in its application. Applications for streamlined processing shall include the information and certifications required by paragraph (k) of this section. On the date of filing with the Commission, the applicant shall also send a complete copy of the application, or any major amendments or other material filings regarding the application, to: U.S. Coordinator, EB/CIP, U.S. Department of State, 2201 C Street, NW., Washington, DC 20520-5818; Office of Chief Counsel/NTIA, U.S. Department of Commerce, 14th St. and Constitution Ave., NW., Washington, DC 20230; and Defense Information Systems Agency, ATTN: GC/DO1, 6910 Cooper Avenue, Fort Meade, MD 20755-7088, and shall certify such service on a service list attached to the application or other filing.

* * * * *

[FR Doc. 2011-14009 Filed 6-6-11; 8:45 am]

BILLING CODE 6712-01-P